SECURITIES AND EXCHANGE COMMISSION

Sunshine Act Meeting

Federal Register Citation of Previous Announcement: [71 FR 41484, July 21, 2006].

Status: Closed Meeting.

Place: 100 F Street, NE., Washington, DC

Date and Time of Previously Announced Meeting: Thursday, July 27, 2006 at 2 p.m.

Change in the Meeting: Time Change.

The closed meeting scheduled for Thursday, July 27, 2006 at 2 p.m. has been changed to Thursday, July 27, 2006 at 3 p.m.

At times, changes in Commission priorities require alterations in the scheduling of meeting items. For further information and to ascertain what, if any, matters have been added, deleted or postponed, please contact the Office of the Secretary at (202) 551-5400.

Dated: July 25, 2006.
Jill M. Peterson,
Assistant Secretary.

[FR Doc. 06-6571 Filed 7-25-06; 4:48 pm]

BILLING CODE 8010-01-M